DEPARTMENT OF COMMERCE

Submission for OMB Review; Comment Request

The Department of Commerce has submitted to the Office of Management and Budget (OMB) for clearance the following proposal for collection of information under the provisions of the Paperwork Reduction Act (44 U.S.C. chapter 35).

Agency: National Oceanic and Atmospheric Administration (NOAA).

Title: Fishing Capacity Reduction Program Buyback Requests.

Form Number(s): None.

OMB Approval Number: 0648-0376.

Type of Request: Regular submission.

Burden Hours: 38,563.

Number of Respondents: 878.

Average Hours Per Response: 2 hours and 20 minutes.

Needs and Uses: The National Marine Fisheries Service (NMFS) has established a program to reduce excess fishing capacity by paying fishermen (1) to surrender their fishing permits or (2) both surrender their permits and either scrap their vessels or restrict vessel titles to prevent fishing. NMFS proposes to extend the currently approved collection.

Affected Public: Business or other for-profit organizations; individuals or households; State, Local or Tribal Government.

Frequency: Annually, monthly, and on occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: June 16, 2005.
Gwellnar Banks,
Management Analyst, Office of the Chief Information Officer.

[FR Doc. 05-12264 Filed 6-21-05; 8:45 am]

BILLING CODE 3510-22-P